RAILROAD RETIREMENT BOARD

Sunshine Act; Notice of Public Meeting

Notice is hereby given that the Railroad Retirement Board will hold a meeting on January 14, 2010, 9 a.m. at the Board's meeting room on the 8th floor of its headquarters building, 844 North Rush Street, Chicago, Illinois 60611. The agenda for this meeting follows:

Portion open to the public:

(1) Executive Committee Reports.

Portion closed to the public:

(A) Employer Status Determination—Employee Service Determination—Decision on Remand—Former Police Officers of MTA.

The person to contact for more information is Beatrice Ezerski, Secretary to the Board, Phone No. 312-751-4920.

Dated: January 5, 2010.
Beatrice Ezerski,
Secretary to the Board.

[FR Doc. 2010-210 Filed 1-6-10; 11:15 am]

BILLING CODE 7905-01-P